DEPARTMENT OF HOMELAND SECURITY

Federal Emergency Management Agency

[Docket ID FEMA-2020-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of June 19, 2020 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Fulton County, Georgia and Incorporated Areas
Docket No.: FEMA-B-1808 and FEMA B-1905
City of Milton | City Hall, 2006 Heritage Walk, Milton, GA 30004.
City of Roswell | City Hall, 38 Hill Street, Suite 235, Roswell, GA 30075.
Ada County, Idaho and Incorporated Areas
Docket Nos.: FEMA-B-1703 and FEMA-B-1832
City of Boise | City Hall, 150 North Capitol Boulevard, Boise, ID 83702.
City of Eagle | City Hall, 660 East Civic Lane, Eagle, ID 83616.
City of Garden City | City Hall, 6015 North Glenwood Street, Garden City, ID 83714.
City of Meridian | Public Works Department, 33 East Broadway Avenue, Suite 200, Meridian, ID 83642.
City of Star | City Hall, 10769 West State Street, Star, ID 83669.
Unincorporated Areas of Ada County | Ada County Courthouse, 200 West Front Street, Boise, ID 83702.
Floyd County, Iowa and Incorporated Areas
Docket No.: FEMA-B-1906
City of Charles City | City Hall, 105 Milwaukee Mall, Charles City, IA 50616.
City of Floyd | City Hall, 617 Monroe Street, Floyd, IA 50435.
City of Marble Rock | City Hall, 105 Main Street South, Marble Rock, IA 50653.
City of Nora Springs | City Hall, 45 North Hawkeye Avenue, Nora Springs, IA 50458.
City of Rockford | City Hall, 206 West Main Avenue, Rockford, IA 50468.
City of Rudd | City Hall, 402 Chickasaw Street, Rudd, IA 50471.
Unincorporated Areas of Floyd County | Floyd County Courthouse, 101 South Main Street, Suite 206, Charles City, IA 50616.
Winnebago County, Iowa and Incorporated Areas
Docket No.: FEMA-B-1906
City of Buffalo Center | City Hall, 201 2nd Avenue Southwest, Buffalo Center, IA 50424.
City of Lake Mills | City Hall, 105 West Main Street, Lake Mills, IA 50450.
City of Leland | City Hall, 316 Walnut Street, Leland, IA 50453.
City of Rake | Town Hall, 101 East Grace Street, Rake, IA 50465.
City of Scarville | City Hall, 121 Main Street, Scarville, IA 50473.
City of Thompson | City Hall, 167 2nd Avenue West, Thompson, IA 50478.
Unincorporated Areas of Winnebago County | Winnebago County Courthouse, 126 South Clark Street, Forest City, IA 50436.
Barnstable County, Massachusetts (All Jurisdictions)
Docket No.: FEMA-B-1842
Town of Bourne | Bourne Town Hall, 24 Perry Avenue, Buzzards Bay, MA 02532.
Norfolk County, Massachusetts (All Jurisdictions)
Docket No.: FEMA-B-1842
Town of Cohasset | Town Hall, 41 Highland Avenue, Cohasset, MA 02025.
Monroe County, Michigan (All Jurisdictions)
Docket No.: FEMA-B-1873
Charter Township of Berlin | Berlin Charter Township Hall, 8000 Swan View Road, Newport, MI 48166.
Charter Township of Frenchtown | Frenchtown Charter Township Building, 2744 Vivian Road, Monroe, MI 48162.
Charter Township of Monroe | Township Hall, 4925 East Dunbar Road, Monroe, MI 48161.
City of Luna Pier | City Hall, 4357 Buckeye Street, Luna Pier, MI 48157.
City of Monroe | City Hall, 120 East First Street, Monroe, MI 48161.
Township of Erie | Township Hall, 2065 Erie Road, Erie, MI 48133.
Township of LaSalle | Township Hall, 4111 LaPlaisance Road, LaSalle, MI 48145.
Village of Estral Beach | Estral Beach Village Hall, 7194 Lakeview Boulevard, Newport, MI 48166.
Beaufort County, North Carolina and Incorporated Areas
Docket No.: FEMA-B-1718
City of Washington | Town Hall, 102 East Second Street, Washington, NC 27889.
Town of Aurora | Town Hall, 295 Main Street, Aurora, NC 27806.
Town of Bath | Town Hall, 103 South King Street, Bath, NC 27808.
Town of Belhaven | Building and Inspection Department, 315 East Main Street, Belhaven, NC 27810.
Town of Chocowinity | Public Works Department, 3391 Highway 17 South, Chocowinity, NC 27817.
Town of Pantego | Town Hall, 142 Swamp Road, Pantego, NC 27860.
Town of Washington Park | Washington Park Town Office, 408 Fairview Avenue, Washington, NC 27889.
Unincorporated Areas of Beaufort County | Beaufort County Building Inspections, 220 North Market Street, Washington, NC 27889.
Carteret County, North Carolina and Incorporated Areas
Docket No.: FEMA-B-1718
Town of Cedar Point | Town Hall, 427 Sherwood Avenue, Cedar Point, NC 28584.
Town of Emerald Isle | Town Hall, 7500 Emerald Drive, Emerald Isle, NC 28594.
Unincorporated Areas of Carteret County | Carteret County Planning and Inspections Department, 402 Broad Street, Beaufort, NC 28516.
Craven County, North Carolina and Incorporated Areas
Docket No.: FEMA-B-1718
City of Havelock | Planning Department, 199 Cunningham Boulevard, Havelock, NC 28532.
City of New Bern | City Hall, 300 Pollock Street, New Bern, NC 28560.
Town of Bridgeton | Town Hall, 201 Highway 17 North, Bridgeton, NC 28519.
Town of River Bend | Town Hall, 45 Shoreline Drive, River Bend, NC 28562.
Town of Trent Woods | Town Hall, 912 Country Club Drive, Trent Woods, NC 28562.
Unincorporated Areas of Craven County | Craven County GIS and Mapping Department, 226 Pollock Street, New Bern, NC 28560.
Currituck County, North Carolina and Incorporated Areas
Docket No.: FEMA-B-1616
Unincorporated Areas of Currituck County | Currituck County Planning and Inspections Department, 153 Courthouse Road, Currituck, NC 27929.
Dare County, North Carolina and Incorporated Areas
Docket No.: FEMA-B-1718
Town of Duck | Administrative Office, 1200 Duck Road, Duck, NC 27949.
Town of Kill Devil Hills | Planning and Inspections, 102 Town Hall Drive, Kill Devil Hills, NC 27948.
Town of Kitty Hawk | Town Hall, 101 Veterans Memorial Drive, Kitty Hawk, NC 27949.
Town of Manteo | Town Hall, 407 Budleigh Street, Manteo, NC 27954.
Town of Nags Head | Planning Department, 5401 South Croatan Highway, Nags Head, NC 27959.
Town of Southern Shores | Town Hall, 5375 North Virginia Dare Trail, Southern Shores, NC 27949.
Unincorporated Areas of Dare County | Dare County GIS, Administration Building, 954 Marshall C. Collins Drive, Manteo, NC 27954.
Hyde County, North Carolina and Incorporated Areas
Docket No.: FEMA-B-1718
Unincorporated Areas of Hyde County | Hyde County Building Inspections Department, 1223 Main Street, Swan Quarter, NC 27885.
Jones County, North Carolina and Incorporated Areas
Docket No.: FEMA-B-1718
Unincorporated Areas of Jones County | Jones County Government Office, 418 Highway 58 North, Trenton, NC 28585.
Lenoir County, North Carolina and Incorporated Areas
Docket No.: FEMA-B-1718
Unincorporated Areas of Lenoir County | Lenoir County Administration Building, 101 North Queen Street, Kinston, NC 28502.
Onslow County, North Carolina and Incorporated Areas
Docket No.: FEMA-B-1718
City of Jacksonville | City Hall, 815 New Bridge Street, Jacksonville, NC 28540.
Town of Holly Ridge | Town Hall, 212 North Dyson Street, Holly Ridge, NC 28445.
Town of North Topsail Beach | Town Hall, 2008 Loggerhead Court, North Topsail Beach, NC 28460.
Town of Richlands | Town Hall, 302 South Wilmington Street, Richlands, NC 28574.
Town of Swansboro | Town Hall, Zoning Department, 601 West Corbett Avenue, Swansboro, NC 28584.
Unincorporated Areas of Onslow County | Onslow County Floodplain Administration, 234 Northwest Corridor Boulevard, Jacksonville, NC 28540.
Pamlico County, North Carolina and Incorporated Areas
Docket No.: FEMA-B-1718
Town of Alliance | Pamlico County Building Inspector's Office, 202 Main Street, Bayboro, NC 28515.
Town of Bayboro | Town Hall, 208 North Street, Bayboro, NC 28515.
Town of Grantsboro | Pamlico County Building Inspector's Office, 202 Main Street, Bayboro, NC 28515.
Town of Mesic | Pamlico County Building Inspector's Office, 202 Main Street, Bayboro, NC 28515.
Town of Minnesott Beach | Minnesott Beach Town Hall, 11758 NC Highway 306 South, Arapahoe, NC 28510.
Town of Oriental | Town Hall, 507 Church Street, Oriental, NC 28571.
Town of Stonewall | Town Hall, 74 Spain Farm Road, Stonewall, NC 28583.
Unincorporated Areas of Pamlico County | Pamlico County Building Inspector's Office, 202 Main Street, Bayboro, NC 28515.
Pitt County, North Carolina and Incorporated Areas
Docket No.: FEMA-B-1718
City of Greenville | City Hall, 200 West 5th Street, Greenville, NC 27858.
Town of Grimesland | Town Hall, 7592 Pitt Street, Grimesland, NC 27837.
Unincorporated Areas of Pitt County | Pitt County Planning Department, 1717 West 5th Street, Greenville, NC 27834.
Village of Simpson | Village Hall, 2768 Thompson Street, Simpson, NC 27879.
Tyrrell County, North Carolina and Incorporated Areas
Docket No.: FEMA-B-1718
Unincorporated Areas of Tyrrell County | Tyrrell County Planning Department, 108 South Water Street, Columbia, NC 27925.
Washington County, North Carolina and Incorporated Areas
Docket No.: FEMA-B-1718
Unincorporated Areas of Washington County | Washington County Permits, Inspections and Emergency Management Department, 205 East Main Street, Plymouth, NC 27962.
Scioto County, Ohio and Incorporated Areas
Docket No.: FEMA-B-1902
City of Portsmouth | City Hall, 728 2nd Street, Portsmouth, OH 45662.
Unincorporated Areas of Scioto County | Scioto County Floodplain Office, 602 7th Street, Portsmouth, OH 45662.
Village of New Boston | Village Office, 3980 Rhodes Avenue, New Boston, OH 45662.
Newport County, Rhode Island (All Jurisdictions)
Docket No.: FEMA-B-1842
Town of Little Compton | Town Hall, 40 Commons, Little Compton, RI 02837.
Town of Tiverton | Town Hall, 343 Highland Road, Tiverton, RI 02878.
Bexar County, Texas and Incorporated Areas
Docket No.: FEMA-B-1865
City of San Antonio | Transportation and Capital Improvements Department, Storm Water Division, 114 West Commerce Street, 6th Floor, San Antonio, TX 78205.
City of Terrell Hills | Terrell Hills City Hall, 5100 North New Braunfels Avenue, San Antonio, TX 78209.
Denton County, Texas and Incorporated Areas
Docket No.: FEMA-B-1865
City of Corinth | City Hall, 3300 Corinth Parkway, Corinth, TX 76208.
City of Lake Dallas | Development Services, 212 Main Street, Lake Dallas, TX 75065.
Town of Shady Shores | Town Hall, 101 South Shady Shores Road, Shady Shores, TX 76208.
Unincorporated Areas of Denton County | Denton County Public Works-Planning, 1505 East McKinney Street, Suite 175, Denton, TX 76209.
Utah County, Utah and Incorporated Areas
Docket No.: FEMA-B-1838
City of Alpine | Public Works Building, 181 East 200 North, Alpine, UT 84004.
City of American Fork | City Administration, 51 East Main Street, American Fork, UT 84003.
City of Cedar Hills | City Hall, 10246 North Canyon Road, Cedar Hills, UT 84062.
City of Draper | City Hall, 1020 East Pioneer Road, Draper, UT 84020.
City of Highland | City Hall, 5400 West Civic Center Drive, Suite 1, Highland, UT 84003.
City of Lehi | City Hall, 153 North 100 East, Lehi, UT 84043.
City of Lindon | City Center, 100 North State Street, Lindon, UT 84042.
City of Mapleton | City Office, 125 West Community Center Way, Mapleton, UT 84664.
City of Orem | City Center, 56 North State Street, Orem, UT 84057.
City of Payson | City Hall, 439 West Utah Avenue, Payson, UT 84651.
City of Provo | City Center, 351 West Center Street, Provo, UT 84601.
City of Salem | City Office, 30 West 100 South, Salem, UT 84653.
City of Saratoga Springs | City Hall, 1307 North Commerce Drive, Suite 200, Saratoga Springs, UT 84045.
City of Spanish Fork | City Hall, 40 South Main Street, Spanish Fork, UT 84660.
City of Springville | City Hall, 110 South Main Street, Springville, UT 84663.
City of Vineyard | City Hall, 125 South Main Street, Vineyard, UT 84059.
Town of Genola | Town Office, 74 West 800 South, Genola, UT 84655.
Unincorporated Areas of Utah County | Community Development Department, 51 South University Avenue, Suite 117, Provo, UT 84601.
City of Radford, Virginia (Independent City)
Docket No.: FEMA-B-1905
City of Radford | City Office, 10 Robertson Street, Radford, VA 24141.
Snohomish County, Washington and Incorporated Areas
Docket No.: FEMA-B-1773
City of Arlington | City Hall, 238 North Olympic Avenue, Arlington, WA 98223.
City of Bothell | City Hall, 18415 101st Avenue Northeast, Bothell, WA 98011.
City of Brier | City Hall, 2901 228th Street Southwest, Brier, WA 98036.
City of Edmonds | City Hall, 121 5th Avenue North, Edmonds, WA 98020.
City of Everett | City Hall, 2930 Wetmore Avenue, Suite 10-A, Everett, WA 98201.
City of Gold Bar | City Hall, 107 5th Street, Gold Bar, WA 98251.
City of Granite Falls | City Hall, 206 South Granite Avenue, Granite Falls, WA 98252.
City of Lake Stevens | City Hall, Permit Center, 1812 Main Street, Lake Stevens, WA 98258.
City of Lynnwood | City Hall, 19100 44th Avenue West, Lynnwood, WA 98036.
City of Marysville | City Hall, 1049 State Avenue, Marysville, WA 98270.
City of Mill Creek | City Hall, 15728 Main Street, Mill Creek, WA 98012.
City of Monroe | City Hall, Engineering Department, 806 West Main Street, Monroe, WA 98272.
City of Mountlake Terrace | City Hall, 6100 219th Street Southwest, Suite 200, Mountlake Terrace, WA 98043.
City of Mukilteo | City Hall, 11930 Cyrus Way, Mukilteo, WA 98275.
City of Snohomish | City Hall, 116 Union Avenue, Snohomish, WA 98290.
City of Stanwood | City Hall, 10220 270th Street Northwest, Stanwood, WA 98292.
City of Sultan | City Hall, 319 Main Street, Suite 200, Sultan, WA 98294.
Stillaguamish Tribe | Stillaguamish Tribe, Natural Resources Department, 3322 236th Street Northeast, Arlington, WA 98223.
Town of Darrington | Town Hall, 1005 Cascade Street, Darrington, WA 98241.
Town of Index | Town Hall, 511 Avenue A, Index, WA 98256.
Town of Woodway | Town Hall, 23920 113th Place West, Woodway, WA 98020.
Tulalip Tribe | Natural Resources Department, 6406 Marine Drive, Tulalip, WA 98271.
Unincorporated Areas of Snohomish County | Snohomish County Planning and Development Services, 3000 Rockefeller Avenue, Everett, WA 98201.
Thurston County, Washington and Incorporated Areas
Docket No.: FEMA-B-1910
City of Tenino | City Hall, 149 Hodgden Street South, Tenino, WA 98589.
Town of Bucoda | Bucoda Community Center, 101A East 7th Street, Bucoda, WA 98530.
Unincorporated Areas of Thurston County | Thurston County Courthouse, 2000 Lakeridge Drive Southwest, Building One, Olympia, WA 98502.

[FR Doc. 2020-05520 Filed 3-16-20; 8:45 am]

BILLING CODE 9110-12-P